DEPARTMENT OF THE INTERIOR

Geological Survey

Patent, Trademark and Copyright Acts

AGENCY: Geological Survey, Interior.

ACTION: Notice of prospective intent to award exclusive license.

SUMMARY: The United States Geological Survey (USGS) is contemplating awarding an exclusive license to: Sequoia Scientific, Inc., of Bellevue, Washington 98005, on U.S. Patent No. 6,680,795 B2, entitled “Underwater Microscope System.”

Inquiries: If other parties are interested in similar activities, or have comments related to the prospective award, please contact Neil Mark, USGS, 12201 Sunrise Valley Drive, MS 201, Reston, Virginia 20192, voice (703) 648-4344, fax (703) 648-4706, or e-mail nmark@usgs.gov.

SUPPLEMENTARY INFORMATION: This notice is submitted to meet the requirements of 35 U.S.C. 208 et seq.

Dated: March 1, 2004.
P. Patrick Leahy,
Associate Director for Geology.

[FR Doc. 04-11830 Filed 5-25-04; 8:45 am]

BILLING CODE 4310-Y7-M